JUDICIAL CONFERENCE OF THE UNITED STATES

Hearings of the Judicial Conference Advisory Committee on Rules of Civil Procedure

Federal Register Citation of Previous Announcement: 79FR 48250

AGENCY: Advisory Committee on Rules of Civil Procedure, Judicial Conference of the United States.

ACTION: Notice of cancellation of public hearing.

SUMMARY: The following public hearing on proposed amendments to the Federal Rules of Civil Procedure has been canceled: Civil Rules Hearing, October 31, 2014, Washington, DC.

FOR FURTHER INFORMATION CONTACT: Jonathan C. Rose, Secretary and Chief Rules Officer, Rules Committee Support Office, Administrative Office of the United States Courts, Washington, DC 20544, telephone (202) 502-1820.

Dated: October 1, 2014.
Jonathan C. Rose,
Secretary and Chief Rules Officer.

[FR Doc. 2014-23819 Filed 10-6-14; 8:45 am]

BILLING CODE 2210-55-P